FEDERAL RESERVE SYSTEM

Formations of, Acquisitions by, and Mergers of Bank Holding Companies; Correction

This notice corrects a notice (FR Doc. E8-1202 published on page 4573 of the issue for Friday, January 25, 2008.

Under the Federal Reserve Bank of Kansas City heading, the entry for HOTC, Inc., Wray, Coloardo, is revised to read as follows:

A. Federal Reserve Bank of Kansas City (Todd Offenbacker, Assistant Vice President) 925 Grand Avenue, Kansas City, Missouri 64198-0001:

1. HOTC, Investment Company, to become a bank holding company by acquiring 100 percent of the voting shares of Wray State Bank, both of Wray, Colorado.

Comments on this application must be received by February 19, 2008.

Board of Governors of the Federal Reserve System, February 1, 2008.
Jennifer J. Johnson,
Secretary of the Board.

[FR Doc. E8-2127 Filed 2-5-08 8:45 am]

BILLING CODE 6210-01-S